DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Permit Family of Forms.

OMB Control Number: 0648-0327.

Form Number(s): None.

Type of Request: Regular (revision and extension of a currently approved information collection).

Number of Respondents: 37,105.

Average Hours per Response: Renewal of Atlantic Tunas Dealer Permit application, 5 minutes; renewal applications for the following vessel permits—Atlantic Tunas, HMS Charter/Headboat, HMS Angling, and Swordfish General Commercial, 10 minutes; initial Atlantic Tunas Dealer Permit application, 15 minutes; initial applications for the following vessel permits—Atlantic Tunas, HMS Charter/Headboat, HMS Angling, and Swordfish General Commercial, 35 minutes; One-time application for the IMO/LP number, 30 minutes.

Burden Hours: 9,971.

Needs and Uses: This request is for the revision and extension of a current information collection, which includes both vessel and dealer permits.

Under the provisions of the Magnuson-Stevens Fishery Conservation and Management Act (16 U.S.C. 1801 et seq. ), the National Oceanic and Atmospheric Administration's National Marine Fisheries Service (NMFS) is responsible for management of the Nation's marine fisheries. In addition, NMFS must comply with the United States’ obligations under the Atlantic Tunas Convention Act of 1975 (16 U.S.C. 971 et seq. ). NMFS issues permits to fishing vessels and dealers in order to collect information necessary to comply with domestic and international obligations, secure compliance with regulations, and disseminate necessary information.

Regulations at 50 CFR 635.4 require that vessels participating in commercial and recreational fisheries for Atlantic highly migratory species (HMS) and dealers purchasing Atlantic HMS from a vessel obtain a Federal permit issued by NMFS. This action addresses the renewal of permit applications currently approved under PRA 0648-0327, including both vessel and Atlantic Tunas Dealer permits. Vessel permits include Atlantic Tunas (except Longline permits, which are approved under OMB Control No. 0648-0205), HMS Charter/Headboat, HMS Angling, and Swordfish General Commercial permits. This action also includes the one-time requirement for commercial vessels greater than 20 meters in length to obtain a International Maritime Organization/Lloyd's Registry (IMO/LR) number.

The primary reason for the revision of this information collection is to reflect that HMS International Trade Permits have been removed from this collection as they were discontinued in 2016, and replaced with the International Fishing Trade Permit (IFTP). The IFTP is covered under OMB Control No. 0648-0732. Thus, the burden and costs associated with renewal and issuance of an initial HMS ITP are no longer applicable to this collection of information.

Affected Public: Business or other for-profit organizations; individuals or households.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2018.
Sarah Brabson,
NOAA PRA Clearance Officer.

[FR Doc. 2018-13807 Filed 6-26-18; 8:45 am]

BILLING CODE 3510-22-P